DEPARTMENT OF THE INTERIOR

Bureau of Safety and Environmental Enforcement

30 CFR Part 285

Bureau of Ocean Energy Management

30 CFR Part 585

[Docket No. BSEE-2023-0015 EEEE500000 245E1700D2 ET1SF0000.EAQ000]

RIN 1010-AE04

Renewable Energy Modernization Rule; Correction

AGENCY: Bureau of Ocean Energy Management (BOEM) and Bureau of Safety and Environmental Enforcement (BSEE), Interior.

ACTION: Proposed rule; correction.

SUMMARY: The Department of the Interior (DOI) is publishing this correction to certain collections of information described in the preamble of the proposed rule titled “Renewable Energy Modernization Rule” (Proposed Rule) for public notice and comment. BSEE, in coordination with BOEM, is correcting and soliciting comments related to the preamble discussion of certain information collection burdens that subsequently transferred to BSEE under the rule titled “Reorganization of Title 30-Renewable Energy and Alternate Uses of Existing Facilities on the Outer Continental Shelf” (Reorganization Rule).

DATES: BSEE must receive your comments on or before March 4, 2024.

ADDRESSES: You may submit comments on the proposed amendments to the collections of information by any of the following methods. Please use the Regulation Identifier Number (RIN) RIN 1010-AE04 as an identifier in your message:

• Electronically go to https://www.regulations.gov. In the search box, enter BSEE-2023-0015 then click search. Follow the instructions to submit public comments and view all related materials. We will post all comments.

• Email kye.mason@bsee.gov, fax (703) 787-1546, or mail or hand-carry comments to the Department of the Interior; Bureau of Safety and Environmental Enforcement; Regulations and Standards Branch; ATTN: Nikki Mason; 45600 Woodland Road, Sterling, VA 20166. Please reference OMB Control Number 1014-0034 in the subject line of your comments.

FOR FURTHER INFORMATION CONTACT: Nikki Mason by email at kye.mason@bsee.gov or by telephone at (703) 787-1607. Individuals in the United States who are deaf, deafblind, hard of hearing, or have a speech disability may dial 711 (TTY, TDD, or TeleBraille) to access telecommunications relay services. Individuals outside the United States should use the relay services offered within their country to make international calls to the point-of-contact in the United States. You may also view the information collection request (ICR) at http://www.reginfo.gov/public/do/PRAMain.

SUPPLEMENTARY INFORMATION: In accordance with the Paperwork Reduction Act of 1995 (PRA) and 5 CFR 1320.8(d)(1), all information collections require approval under the PRA.

This correction pertains to the Proposed Rule, which published in the Federal Register on January 30, 2023 (88 FR 5968). Subsequently, DOI published the Reorganization Rule in the Federal Register on January 31, 2023 (88 FR 6376). The Reorganization Rule relocated or reproduced certain regulatory provisions addressed in the Proposed Rule under 30 CFR part 585 to the newly created 30 CFR part 285. The Office of Management and Budget (OMB) has assigned OMB Control Number 1014-0034 to the collections of information under 30 CFR part 285.

The DOI is correcting the proposed rule preamble discussion in section VII.A.2, “Paperwork Reduction Act of 1995,” by adding the relevant BSEE burden hours covered under 30 CFR 285 Subpart H. The proposed burden information for 30 CFR 285 Subpart H reflects the reallocation of the relevant information collection burdens from part 585 to part 285, now under BSEE's administration. Accordingly, DOI is publishing these corrections to allow for public comment on the amended collections of information only.

Correction

In FR Doc No. 2023-00668, appearing on page 5968, in the Federal Register of January 30, 2023, make the following correction:

1. Add the following information to the end of the preamble section VII.A.2 “Paperwork Reduction Act of 1995”:

The following Proposed Rule information collections found in 30 CFR part 585, subpart I, “Environmental and Safety Management, Inspections, and Facility Assessments for Activities Conducted Under SAPs, COPs, and GAPs,” are now administered by BSEE under 30 CFR part 285, subpart H. These information collections are included in OMB Control Number 1014-0034.

Section(s) in 30 CFR part 285 | Reporting and recordkeeping requirement | Burden changes and/or additions
Subpart H—Environmental and Safety Management, Inspections, and Facility Assessments for Activities Conducted Under SAPs, COPs, and GAPs
285.810; 285.614(b); 285.632(b); 285.651 (See Note 1 below) | Use a Safety Management System for all activities conducted pursuant to a lease and make available to BSEE upon request. Submit safety management system description with a COP, or with a SAP or GAP, if facilities being installed are deemed by BOEM to be complex or significant | 35 hours × 2 submissions = 70 annual burden hours. 60 hours attributable to 285.810.
285.812(b)(1) Form BSEE-0187 (See note 2 below) | Submit safety and environmental performance data (Form BSEE-0187, Performance Measures Data—Renewable Energy) | 82 hours × 10 submissions = 820 annual burden hours.
285.812(b)(2) (See note 3 below) | Provide report summary on SMS audit, corrective actions, and changes to SMS every 3 years | 5 hours × 1 report = 5 annual burden hours.
285.830(d) (See note 4 below) | Report oil spills as required by BSEE 30 CFR 250.187 | Burden covered under BSEE 1014-0007. (−2 annual burden hours and −1 report).
Total would add to 1014-0034 BSEE inventory: | 883 burden hours.

Note 1: Proposed § 285.810 would clarify that BSEE requires lessees to submit a safety management system (SMS) before conducting any activities under a lease, including meteorological buoy placement and site assessment work. This would clarify that BSEE requires a structured approach to safe operations during the conduct of any activity under a lease, through an SMS, whether or not covered by a formal plan. BSEE proposes to add 60 annual burden hours to § 285.810. The remaining 10 burden hours associated with the proposed revisions would remain under the BOEM information collection number identified in the Proposed Rule.

Note 2: Proposed § 285.812(b)(1) would add new reporting requirements: it would require an annual summary of safety performance data covering the previous calendar year during which site assessment, construction, operations, or decommissioning activities occurred by submitting Form BSEE-0187, Performance Measures Data—Renewable Energy. This form would include company identification and number of injuries, illnesses, and hours worked by company employees and contractors. This information would be used to develop incident rates that would help assess workplace safety and environmental compliance across the OCS renewable energy industry. BSEE proposes to add 820 annual burden hours to § 285.812(b)(1).

Note 3: Proposed § 285.812(b)(2) would require a summary of the most recent SMS audit, corrective actions implemented or pending because of that audit, and an updated SMS description highlighting changes made since the last report. This report would be due every 3 years or upon BSEE's request. BSEE proposes to add 5 annual burden hours to § 285.812(b)(2).

Note 4: For § 285.830(d), BSEE is proposing to subtract 2 burden hours because the burdens for reporting oil spills falls under OMB Control Number 1014-0007.

Abstract: BSEE will use the collected information to oversee facility design, fabrication, installation, and safety management systems; ensure the safety of operations through inspection programs and incident reporting and investigations; enforce compliance with all applicable safety, environmental, and other laws and regulations through enforcement actions (such as noncompliance notices, cessation orders, and certain lease suspensions); and oversee decommissioning activities.

Title of Collection: 30 CFR part 285, “Renewable Energy and Alternate Uses of Existing Facilities on the Outer Continental Shelf.”

OMB Control Number: 1014-0034.

Form Number: Forms BSEE-1835 Notice(s) of Noncompliance (NONCs) and BSEE-0187 Performance Measures Data—Renewable Energy.

Type of Review: Revision of a currently approved collection.

Respondents/Affected Public: Primary respondents comprise companies that submit unsolicited proposals or responses to Federal Register notices or are lessees, designated operators, and right-of-way or right-of-use and easement grant holders. Other potential respondents are companies or State and local governments that submit information or comments relative to alternative energy-related uses of the OCS; certified verification agents; and surety or third-party guarantors.

Total Estimated Number of Annual Respondents: Currently there are approximately 47 lessees holding leases for OCS wind energy development. Not all the potential respondents will submit information in any given year, and some may submit multiple times.

Total Estimated Number of Annual Responses: 10.

Estimated Completion Time per Response: Varies from 30 minutes to 6,000 hours, depending on activity.

Total Estimated Number of Annual Burden Hours: 883.

Respondent's Obligation: Responses are mandatory and are required to obtain or retain a benefit.

Frequency of Collection: Generally, submissions are on occasion or annual.

Total Estimated Annual Nonhour Burden Cost: N/A.

If the proposed requirements become effective and OMB approves the information collection request, BSEE would revise the existing OMB Control Number 1014-0034 for the affected subpart discussed above and would adjust the annual burden hours accordingly. The information collections related to 30 CFR part 285 do not include questions of a sensitive nature. BSEE will continue to protect proprietary information in keeping with its legal obligations and DOI's implementing regulations, which address disclosure of information to the public.

In addition, the PRA requires agencies to estimate the total annual reporting and recordkeeping non-hour cost burden resulting from the collection of information. BSEE solicits your comments regarding non-hour cost burdens arising from this amendment. For reporting and recordkeeping only, your response should split the cost estimate into two components: (1) total capital and startup cost component, and (2) annual operation, maintenance, and disclosure cost component to provide the information. You should describe the methods you use to estimate your cost components, including system and technology acquisition, expected useful life of capital equipment, discount rates, and the period over which you incur costs. Generally, your estimates should not include equipment or services purchased: (1) before October 1, 1995; (2) to comply with requirements not associated with the information collection arising from this proposed rule; (3) for reasons other than to provide information or to keep records for the U.S. Government; or (4) as part of customary and usual business or private practices.

As part of BSEE's continuing effort to reduce paperwork and respondent burdens, BSEE invites the public and other Federal agencies to comment on any aspect of this information collection, including:

(1) Is the proposed information collection necessary or useful for BSEE to properly perform its functions?

(2) Are the estimated annual burden hour increases and decreases resulting from the proposed rule reasonable?

(3) Is the estimated annual non-hour cost burden resulting from this information collection reasonable?

(4) Do you have any suggestions that would enhance the quality, clarity, or usefulness of the information to be collected?

(5) Is there a way to minimize the information collection burden on those who must respond, such as by using appropriate automated digital, electronic, mechanical, or other forms of information technology?

Comments submitted in response to this amendment are a matter of public record. BSEE will include or summarize each comment to OMB for approval of this information collection. You should be aware that your entire comment—including your address, phone number, email address, or other personally identifiable information included in your comment—may be made publicly available at any time. BSEE will make available for public inspection all comments in their entirety (except proprietary information).

An agency may not conduct or sponsor, and a person is not required to respond to, a collection of information unless it displays a currently valid OMB control number.

The authority for this action is the Paperwork Reduction Act of 1995 (44 U.S.C. 3501 et seq.).

Steven H. Feldgus,
Deputy Assistant Secretary, Land and Minerals Management.

[FR Doc. 2023-27019 Filed 1-2-24; 8:45 am]

BILLING CODE 4310-VH-P